SOCIAL SECURITY ADMINISTRATION

[Docket No: SSA-2018-0057]

Agency Information Collection Activities: Proposed Request and Comment Request

The Social Security Administration (SSA) publishes a list of information collection packages requiring clearance by the Office of Management and Budget (OMB) in compliance with Public Law 104-13, the Paperwork Reduction Act of 1995, effective October 1, 1995. This notice includes an extension and revisions of OMB-approved information collections, and one new information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2018-0057].

I. The information collections below are pending at SSA. SSA will submit them to OMB within 60 days from the date of this notice. To be sure we consider your comments, we must receive them no later than December 21, 2018. Individuals can obtain copies of the collection instruments by writing to the above email address.

1. The Department of the Treasury's Pay.gov Collection Application for Benefit Overpayments—20 CFR 404.501, 404.502, 404.521, and 404.527—0960-NEW. The Social Security Administration will use the new internet Pay.gov Application for Overpayments to offer a new repayment option to beneficiaries and recipients to recover overpayments they incurred. Pay.gov is an online collection portal developed and maintained by the Department of the Treasury (Treasury). The internet remittance portal will offer beneficiaries and recipients another option to repay overpayments via credit card, debit card, and automated clearing house (ACH). The SSA application located on SocialSecurity.gov will request the overpaid individual's Social Security Number (SSN) and dollar amount they wish to repay on his or her overpayment prior to sending them to Treasury's Pay.gov application which will request and process the payment information on SSA's behalf. The information SSA will collect is used to reconcile the Pay.gov transactions, and update the overpaid individual's balance on his or her record. The respondents are individuals who have Title II or XVI overpayments, and who wish to voluntarily repay the overpayment online through SocialSecurity.gov.

Type of Request: Request for a new information collection.

Modality of completion | Number of respondents | Frequency of response | Number of responses | Average burden per response (minutes) | Estimated total annual burden (hours)
Internet Application for Pay.gov | 424,126 | 12 | 5,089,512 | 10 | 848,252

2. Surveys in Accordance with E.O. 12862 for the Social Security Administration—0960-0526. Under the auspices of Executive Order 12862, Setting Customer Service Standards, SSA conducts multiple customer satisfaction surveys each year. These voluntary customer satisfaction assessments include paper, internet, and telephone surveys; mailed questionnaires; and customer comment cards. The purpose of these questionnaires is to assess customer satisfaction with the timeliness, appropriateness, access, and overall quality of existing SSA services and proposed modifications or new versions of services. The respondents are recipients of SSA services (including most members of the public), professionals, and individuals who work on behalf of SSA beneficiaries.

Type of Request: Extension of an OMB-approved information collection.

| Number of respondents (burden for all activities with that year) | Frequency of response | Average burden per response (minutes) | Estimated total annual burden (burden for all activities within that year; reported in hours)
Year 1 | 5,843,298 | 1 | 3-30 | 1,004,460
Year 2 | 5,868,843 | 1 | 3-30 | 1,371,074
Year 3 | 5,949,054 | 1 | 3-30 | 1,012,482
Total | 17,661,195 |  |  | 3,388,016

3. The Ticket to Work and Self-Sufficiency Program—20 CFR 411—0960-0644. SSA's Ticket to Work (TTW) Program transitions Social Security Disability Insurance (SSDI) and Supplemental Security Income (SSI) recipients toward independence by allowing them to receive Social Security payments while maintaining employment under the auspices of the program. SSA uses service providers, called Employment Networks (ENs), to supervise participant progress through the stages of TTW Program participation, such as job searches and interviews; progress reviews; and changes in ticket status. ENs can be private for-profit and nonprofit organizations, as well as state vocational rehabilitation agencies (VRs). SSA and the ENs utilize the TTW program manager to operate the TTW Program and exchange information about participants. For example, the ENs use the program manager to provide updates on tasks such as selecting a payment system, or requesting payments for helping the beneficiary achieve certain work goals. Since the ENs are not PRA-exempt, the multiple information collections within the TTW program manager require OMB approval. Most of the categories of information are necessary for SSA to: (1) Comply with the Ticket to Work legislation; and (2) provide proper oversight of the program. SSA collects this information through several modalities, including forms, electronic exchanges, and written documentation. The respondents are the ENs or state VRs, SSDI beneficiaries, and blind or disabled SSI recipients working under the auspices of the TTW Program.

Type of Request: Revision of an OMB-approved information collection.

Modality of completion | Number of respondents | Frequency of response | Average burden per response (minutes) | Estimated total annual burden (hours)
a) 20 CFR 411.140(d)(2)—Interactive Voice Recognition Telephone | 6,428 | 1 | 2.5 | 268
a) 20 CFR 411.140(d)(2)—Portal | 25,713 | 1 | 1.25 | 536
a) 20 CFR 411.140(d)(3); 411.325(a); 411.150(b)(3)—SSA-1365 | 948 | 1 | 15 | 237
a) 20 CFR 411.140(d)(3); 411.325(a); 411.150(b)(3)—SSA-1365 Portal | 3,792 | 1 | 11 | 695
a) 20 CFR 411.140(d)(3); 411.325(a); 411.150(b)(3)—SSA-1370 | 21,600 | 1 | 60 | 21,600
a) 20 CFR 411.140(d)(3); 411.325(a); 411.150(b)(3)—SSA-1370 Portal | 5,868 | 1 | 10 | 978
a) 20 CFR 411.166; 411.170(b)—Electronic File Submission | 40,324 | 1 | 5 | 3,360
b) 20 CFR 411.145; 411.325 | 2,494 | 1 | 15 | 624
b) 20 CFR 411.145; 411.325—Portal | 7,481 | 1 | 11 | 1,372
b) 20 CFR 411.535(a)(1)(iii)—Data Sharing/Portal | 8,505 | 1 | 5 | 709
c) 20 CFR 411.192(b)&(c) | 6 | 1 | 30 | 3
c) 20 CFR 411.200(b)—SSA-1375 | 120,000 | 1 | 15 | 30,000
c) 20 CFR 411.200(b) -Portal | 64,824 | 1 | 5 | 5,402
c) 20 CFR 411.210(b) | 41 | 1 | 30 | 21
c) 20 CFR 411.200(b) Wise Webinar Registration Page | 4,812 | 1 | 3 | 241
d) 20 CFR 411.365; 411.505; 411.515 | 6 | 1 | 10 | 1
e) 20 CFR 411.325(d); 411.415* | 1 | 1 | 480 | 8
f) 20 CFR 411.575—SSA-1389; SSA-1391; SSA-1398; SSA-1399 | 2,805 | 1 | 40 | 1,870
f) 20 CFR 411.575—Portal | 42,075 | 1 | 22 | 15,428
f) 20 CFR 411.560—SSA-1401 | 100 | 1 | 20 | 33
g) 20 CFR 411.325(f) | 1,371 | 1 | 45 | 1,028
h) 20 CFR 411.435; 411.615; 411.625 | 2 | 1 | 120 | 4
i) 20 CFR 411.320—SSA-1394 | 52 | 1 | 10 | 9
i) 20 CFR 411.320—SSA-1394 Portal | 158 | 1 | 5 | 13
Totals | 359,406 |  |  | 84,440
* Note: We have not received any responses since 2011.

4. Promoting Opportunity Demonstration—0960-0809. Section 823 of the Bipartisan Budget Act of 2015 required SSA to carry out the Promoting Opportunity Demonstration (POD) to test a new benefit offset formula for Social Security Disability Insurance (SSDI) beneficiaries. Therefore, SSA is undertaking POD, a demonstration to evaluate the affect the new policy will have on SSDI beneficiaries and their families in several critical areas. We previously obtained OMB approval for this demonstration, and are in the midst of implementing the project. In this information collection request, we are seeking approval to add new questions to our follow-up surveys. Respondents are SSDI beneficiaries, who will provide written consent before agreeing to participate in the study and before we randomly assign them to one of the study treatment groups.

Type of Request: Request for a new information collection.

Modality of completion | Number of respondents | Frequency of response | Number of responses | Average burden per response (minutes) | Estimated total annual burden (hours)
Informed Consent Form | 16,500 | 1 | 16,500 | 10 | 2,750
Baseline Survey | 16,500 | 1 | 16,500 | 20 | 5,500
12-Month Follow Up Survey | 6,000 | 1 | 6,000 | 31 | 3,100
24-Month Follow Up Survey | 12,000 | 1 | 12,000 | 26 | 5,200
Interviews with Site Staff | 40 | 4 | 160 | 66 | 176
Onsite Audit of Sample of Case Files | 8 | 2 | 16 | 20 | 5
Semi-Structured Interviews with Treatment Group Subjects | 144 | 1 | 144 | 60 | 144
Monthly Earnings and Impairment-Related Expenses Reporting Form (paper) | 1,820 | 12 | 21,840 | 10 | 3,640
Monthly Earnings and Impairment-Related Expenses Reporting Form (Internet) | 780 | 12 | 9,360 | 5 | 780
End of Year Reporting Form (paper) | 945 | 1 | 945 | 15 | 236
End of Year Reporting Form (Internet) | 405 | 1 | 405 | 10 | 68
Totals | 55,142 |  | 83,870 |  | 21,599

II. SSA submitted the information collection below to OMB for clearance. Your comments regarding this information collections would be most useful if OMB and SSA receive them 30 days from the date of this publication. To be sure we consider your comments, we must receive them no later than November 21, 2018. Individuals can obtain copies of the OMB clearance packages by writing to OR.Reports.Clearance@ssa.gov.

Certificate of Support—20 CFR 404.370, 404.750, 404.408a—0960-0001. A parent of a deceased, fully insured worker may be entitled to Social Security Old-Age, Survivors, and Disability Insurance (OASDI) benefits based on the earnings record of the deceased worker under certain conditions. One of the conditions is the parent receives at least one-half support from the deceased worker. The one-half support requirement also applies to a spousal applicant in determining whether OASDI benefits are subject to Government Pension Offset (GPO). SSA uses Form SSA-760-F4 to determine if the parent of a deceased worker or a spouse applicant meets the one-half support requirement. Respondents are (1) parents of deceased workers, and (2) spouses who may meet the GPO exception,

Type of Request: Revision of an OMB-approved information collection.

Modality of completion | Number of respondents | Frequency of response | Average burden per response (minutes) | Estimated total annual burden (hours)
SSA-760-F4 | 18,000 | 1 | 15 | 4,500

Dated: October 17, 2018.
Naomi Sipple,
Reports Clearance Officer, Social Security Administration.

[FR Doc. 2018-22970 Filed 10-19-18; 8:45 am]

BILLING CODE 4191-02-P